DEPARTMENT OF ENERGY

Federal Energy Regulatory Commission

[Project No. 2594-013]

Northern Lights, Inc.; Notice of Application Accepted for Filing, Soliciting Motions To Intervene and Protests, Ready for Environmental Analysis, and Soliciting Comments, Recommendations, Preliminary Terms and Conditions, and Preliminary Fishway Prescriptions

September 29, 2009.

Take notice that the following hydroelectric application has been filed with the Commission and is available for public inspection.

a. Type of Application: Major License.

b. Project No.: 2594-013.

c. Date filed: July 17, 2009.

d. Applicant: Northern Lights, Inc. (NLI).

e. Name of Project: Lake Creek Hydroelectric Project.

f. Location: The existing project is located on Lake Creek in Lincoln County, Montana, near the City of Troy. The project does not affect Federal lands.

g. Filed Pursuant to: Federal Power Act 16 U.S.C. 791 (a)-825(r) .

h. Applicant Contact: Mark Contor, Operations Manager, Northern Lights, Inc., P.O. Box 269, 421 Chevy Street, Sagle, ID 83860; Telephone (800) 326-9594 ext. 134

i. FERC Contact: Shana Murray, Telephone (202) 502-8333, and e-mail shana.murray@ferc.gov.

j. Deadline for filing motions to intervene and protests, comments, recommendations, preliminary terms and conditions, and preliminary fishway prescriptions is 60 days from the issuance of this notice; reply comments are due 105 days from the issuance date of this notice.

All documents (original and eight copies) should be filed with: Kimberly D. Bose, Secretary, Federal Energy Regulatory Commission, 888 First Street, NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

Motions to intervene, protests, comments, recommendations, preliminary terms and conditions, and preliminary fishway prescriptions may be filed electronically via the Internet. See 18 CFR. 385.2001(a)(1)(iii) and the instructions on the Commission's Web site (http://www.ferc.gov/docs-filing/ferconline.asp) under the “eFiling” link. For a simpler method of submitting text only comments, click on “Quick Comment.” For assistance, please contact FERC Online Support at FERCOnlineSupport@ferc.gov; call toll-free at (866) 208-3676; or, for TTY, contact (202) 502-8659. Although the Commission strongly encourages electronic filing, documents may also be paper-filed. To paper-file, mail an original and eight copies to: Kimberly D. Bose, Secretary, Federal Energy Regulatory Commission, 888 First Street, NE., Washington, DC 20426.

k. This application has been accepted for filing and is now is ready for environmental analysis.

l. The Project consists of: (1) a 268-foot-long, 44-foot-high concrete gravity dam; (2) a 30-acre reservoir with a storage capacity of 150 acre-feet (af); (3) a reinforced concrete intake structure; (4) a 1,694-foot-long, 10-foot diameter flowline, leading to a forebay created by a reinforced concrete structure with wood superstructure; (5) a 297-foot-long, 5-foot diameter penstock, leading to Powerhouse No. 1 containing a Francis-type, turbine-generating unit with a rated capacity of 1 megawatt (MW); (6) a 441-foot-long penstock with a diameter of 8.5 feet, leading to Powerhouse No. 2 containing a Francis-type, turbine-generating unit with a rated capacity of 3.5 MW; (7) a 2.4-7.97/13.8 kilovolt step-up transformer at Powerhouse No. 2; and (8) appurtenant facilities. The project is estimated to generate an average of 23,400,000 kilowatthours annually. The dam and existing project facilities are owned and operated by the applicant. The applicant is not proposing to add capacity or to make any modifications to the Project or its operation under the new license.

Register online at http://www.ferc.gov/docs-filing/esubscription.asp to be notified via e-mail of new filings and issuances related to this or other pending projects. For assistance, contact FERC Online Support.

n. Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

All filings must (1) bear in all capital letters the title “PROTEST”, “MOTION TO INTERVENE”, “COMMENTS,” “REPLY COMMENTS,” “RECOMMENDATIONS,” “PRELIMINARY TERMS AND CONDITIONS,” or “PRELIMINARY FISHWAY PRESCRIPTIONS;” (2) set forth in the heading the name of the applicant and the project number of the application to which the filing responds; (3) furnish the name, address, and telephone number of the person protesting or intervening; and (4) otherwise comply with the requirements of 18 CFR 385.2001 through 385.2005. All comments, recommendations, terms and conditions or prescriptions must set forth their evidentiary basis and otherwise comply with the requirements of 18 CFR 4.34(b). Agencies may obtain copies of the application directly from the applicant. A copy of any protest or motion to intervene must be served upon each representative of the applicant specified in the particular application. A copy of all other filings in reference to this application must be accompanied by proof of service on all persons listed in the service list prepared by the Commission in this proceeding, in accordance with 18 CFR 4.34(b) and 385.2010.

o. Procedural Schedule:

The application will be processed according to the following revised Hydro Licensing Schedule. Revisions to the schedule may be made as appropriate.

(For projects with a Non-Draft NEPA document):

Milestone | Target date
Filing of recommendations, preliminary terms and conditions, and preliminary fishway prescriptions | November 28, 2009.
Commission issues Draft EA or EIS | May 27, 2010.
Comments on Draft EA or EIS | July 26, 2010.
Modified Terms and Conditions | September 24, 2010.
Commission Issues Final EA or EIS | December 23, 2010.

p. Final amendments to the application must be filed with the Commission no later than 30 days from the issuance date of this notice.

q. A license applicant must file no later than 60 days following the date of issuance of the notice of acceptance and ready for environmental analysis provided for in § 5.22: (1) A copy of the water quality certification; (2) a copy of the request for certification, including proof of the date on which the certifying agency received the request; or (3) evidence of waiver of water quality certification.

Kimberly D. Bose,
Secretary.

[FR Doc. E9-23986 Filed 10-5-09; 8:45 am]

BILLING CODE 6717-01-P